DEPARTMENT OF EDUCATION

Regional Advisory Committees

AGENCY: Office of Elementary and Secondary Education, Department of Education.

ACTION: Notice of open meetings.

SUMMARY: The Department of Education (Department) announces upcoming virtual meetings for each of its 10 Regional Advisory Committees (RACs).

DATES: The date and time for each virtual meeting is listed below.

FOR FURTHER INFORMATION CONTACT: Please contact the Designated Federal Official (DFO) for each RAC, listed below:

Appalachia and West RAC: Muhammad Kara, Muhammad.Kara@ed.gov

Central and Southwest RAC: Rebekka Meyer, Rebekka.Meyer@ed.gov

Mid-Atlantic RAC: Esley Newton, Esley.Newton@ed.gov

Midwest and Northwest RAC: Bryan Keohane, Bryan.Keohane@ed.gov

Northeast and Islands RAC: Sarah Zevin, Sarah.Zevin@ed.gov

Pacific RAC: Erin Kelts, Erin.Kelts@ed.gov

Southeast RAC: Elisabeth Lembo, Elisabeth.Lembo@ed.gov

For information about the RACs, visit the RAC website at https://oese.ed.gov/offices/office-of-formula-grants/program-and-grantee-support-services/comprehensive-centers-program/regional-advisory-committees/. For questions, contact Michelle Daley, Program and Grantee Support Services, at (202) 987-1057, or email OESE.RAC@ed.gov.

SUPPLEMENTARY INFORMATION:

Purpose of the Regional Advisory Committees: The purpose of the RACs is to advise the Secretary by (1) conducting an educational needs assessment of each region identified in section 174(b) of the Education Sciences Reform Act of 2002; and (2) submitting reports for each region based on the regional assessments. Notice of these meetings is required under 5 U.S.C chapter 10 (Federal Advisory Committee Act).

Statutory Authority: The RACs are authorized by the Educational Technical Assistance Act of 2002 (ETAA) (Pub. L. 107-279; 20 U.S.C. 9605).

Meeting Agenda: The meetings described in this notice are the third set of meetings for the RACs in 2023. The purpose of these meetings is for each RAC to review the RAC subcommittee's recommendations and to vote on the final educational needs assessment report for the region. Meeting agendas will be posted on the RAC website, https://oese.ed.gov/offices/office-of-formula-grants/program-and-grantee-support-services/comprehensive-centers-program/regional-advisory-committees/, no later than November 1, 2023.

Meeting Dates and Times: Meeting times are listed in Eastern time and local time zones for each region.

Appalachia RAC (Kentucky, Tennessee, Virginia, and West Virginia):

Meeting 3: November 14, 2023, from 9 a.m. to 9:45 a.m. ET/8 a.m. to 8:45 a.m. CT.

Central RAC (Colorado, Kansas, Missouri, Nebraska, North Dakota, South Dakota, and Wyoming):

Meeting 3: November 14, 2023, from 3 p.m. to 3:45 p.m. ET/2 p.m. to 2:45 p.m. CT/1 p.m. to 1:45 p.m. MT.

Mid-Atlantic RAC (Delaware, District of Columbia, Maryland, New Jersey, and Pennsylvania):

Meeting 3: November 16, 2023, from 3 p.m. to 3:45 p.m. ET.

Midwest RAC (Illinois, Indiana, Iowa, Michigan, Minnesota, Ohio, and Wisconsin):

Meeting 3: November 16, 2023, from 4 p.m. to 4:45 p.m. ET/3 p.m. to 3:45 p.m. CT.

Northeast and Islands RAC (Connecticut, Massachusetts, Maine, New Hampshire, New York, Puerto Rico, Rhode Island, Vermont, and the Virgin Islands):

Meeting 3: November 16, 2023, from 11 a.m. to 11:45 a.m. ET.

Northwest RAC (Alaska, Idaho, Montana, Oregon, and Washington):

Meeting 3: November 16, 2023, from 12 p.m. to 12:45 p.m. ET/10 a.m. to 10:45 a.m. MT/9 a.m. to 9:45 a.m. PT/8 a.m. to 8:45 a.m. AT.

Pacific RAC (American Samoa, Commonwealth of the Northern Mariana Islands, Federated States of Micronesia, Guam, Hawaii, Palau, and Republic of the Marshall Islands):

Meeting 3: November 16, 2023, from 6 p.m. to 6:45 p.m. ET/12 p.m. to 12:45 p.m. HST/11 a.m. to 12:30 p.m. SST/November 17, 2023, from 7 a.m. to 8:30 a.m. PWT/8 a.m. to 9:30 a.m. ChST/9 a.m. to 10:30 a.m. PONT/10 a.m. to 11:30 a.m. MHT.

Southeast RAC (Alabama, Florida, Georgia, Mississippi, North Carolina, and South Carolina):

Meeting 3: November 14, 2023, from 10 a.m. to 10:45 a.m. ET/9 a.m. to 9:45 a.m. CT.

Southwest RAC (Arkansas, Bureau of Indian Education, Louisiana, New Mexico, Oklahoma, and Texas):

Meeting 3: November 16, 2023, from 1 p.m. to 1:45 p.m. ET/12 p.m. to 12:45 p.m. CT/11 a.m. to 11:45 a.m. MT/10 a.m. to 10:45 a.m. PT.

West RAC (Arizona, California, Nevada, and Utah):

Meeting 3: November 14, 2023, from 5 p.m. to 5:45 p.m. ET/3 p.m. to 3:45 p.m. MT/2 p.m. to 2:45 p.m. PT.

Access to the RAC Meetings: Members of the public may access the RAC meetings via virtual teleconference. Preregistration is required by 11:59 p.m. ET, two business days before the RAC meeting date. Registration information for the RAC meetings can be found on the RAC website at https://oese.ed.gov/offices/office-of-formula-grants/program-and-grantee-support-services/comprehensive-centers-program/regional-advisory-committees/.

Public Comments: The deadline for written public comments was October 15, 2023. Members of the public were invited to submit written comments to each RAC between August 18 and October 15, 2023, for consideration in their regional needs assessment. The RACs are no longer accepting additional comments. Questions may be submitted to the DFO for each RAC at the email address provided under FOR FURTHER INFORMATION CONTACT.

Reasonable Accommodations: The virtual RAC meetings are accessible to individuals with disabilities. If you need an auxiliary aid or service for the meeting (e.g., interpreting service, assistive listening device, or materials in an alternate format), notify Michelle Daley, Group Leader, Program and Grantee Support Services, by email at OESE.RAC@ed.gov no later than 48 hours before the scheduled meeting date. Although we will attempt to meet a request received after that date, we cannot guarantee availability of the requested accommodation.

Access To Records of the Meetings: Minutes of each RAC meeting will be available on the RAC website, no later than 90 days after the meeting to which they relate. Pursuant to 5 U.S.C. 1009(b), to inspect records for the RAC, the public may contact the DFO for each RAC at the email address provided under FOR FURTHER INFORMATION CONTACT.

Electronic Access to this Document: The official version of this document is the document published in the Federal Register. You may access the official edition of the Federal Register and the Code of Federal Regulations at www.govinfo.gov. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 206 of the ETAA, as amended (20 U.S.C. 9605).

Adam Schott,
Deputy Assistant Secretary for Policy and Programs Delegated the Authority to Perform the Functions and Duties of the Assistant Secretary for Elementary and Secondary Education.

[FR Doc. 2023-23914 Filed 10-27-23; 8:45 am]

BILLING CODE 4000-01-P